DEPARTMENT OF HEALTH AND HUMAN SERVICES

Administration for Children and Families

Proposed Information Collection Activity; Comment Request

Proposed Project

Title: Head Start Family and Child Experiences Survey (FACES).

OMB No.: Revision of a currently approved collection (OMB No. 0970-0151).

Description: The Administration on Children, Youth and Families (ACYF), Administration for Children and Families (ACF) of the Department of Health and Human Services (DHHS) is requesting comments on plans to extend the Head Start Family and Child Experience Survey (FACES). This study is being conducted under contract with Westat, Inc. (with Elsworth Associates and the CDM Group as their subcontractors) (#105-96-1912) to collect information on Head Start performance measures. This revision is intended to extend the current design to a national probability sample of 43 additional Head Start programs in order to ascertain what progress has been made since 1997 in meeting Head Start program performance goals.

FACES currently involves seven phases of data collection. The first phase was a Spring 1997 Field test in which approximately 2400 parents and children were studies in a nationally stratified random sample of 40 Head Start programs. The second and third phases occurred in Fall 1997 (Wave 1) and Spring 1998 (Wave 2) when data were collected on a sample of 3200 children and families in the same 40 programs. Spring 1998 data collection included assessments of both Head Start children completing kindergarten (kindergarten field test) as well as interviews with their parents and ratings by their kindergarten teachers. In the fourth and fifth phases, follow-up continued for a second program year, plus a kindergarten follow-up. The sixth and seventh waves of data collection involve data collection in spring of the first-grade year for both cohorts of children, those competing kindergarten in spring 1999, and those completing kindergarten in spring 2000. The current plan is to extend data collection to a new cohort of 2825 children and families in a new sample of 43 Head Start programs.

This schedule of data collection is necessitated by the mandates of the Government Performance and Results Act (GPRA) of 1993 (Pub. L. 103-62), which requires that the Head Start Bureau move expeditiously toward development and testing of Head Start Performance Measures, and by the 1994 reauthorization of Head Start (Head Start Act, as amended, May 18, 1994, Section 649 (d)), which requires periodic assessments of Head Start's quality and effectiveness.

Respondents: Federal Government, Individuals or Households, and Not-for-profit institutions.

Annual Burden Estimates

Estimated Response Burden for Respondents to the Head Start Family and Child Experience Survey (FACES 2000)—Fall 2000, Spring 2001, Spring 2002, Spring 2003.

Instrument | Number of respondents | Number of responses per respondent | Average burden hours per response | Total burden hours
Year 1 (2000):
Head Start Parents | 2825 | 1 | 1.00 | 2825
Head Start Children | 2825 | 1 | 0.66 | 1865
Head Start Teachers (child ratings) | 195 | 14 | 0.25 | 706
Center Directors | 172 | 1 | 1.00 | 172
Education Coordinators | 172 | 1 | 0.75 | 129
Classroom Teachers | 195 | 1 | 1.00 | 195
Year 2 (2001):
Head Start Parents | 2400 | 1 | 0.75 | 1800
Head Start Children | 2400 | 1 | 0.66 | 1584
Head Start Teachers (child ratings) | 195 | 12 | 0.25 | 600
Family Services Coordinators | 172 | 1 | 0.75 | 129
Year 3 (2002):
Head Start Parents | 800 | 1 | 0.75 | 600
Head Start Children | 800 | 1 | 0.66 | 528
Head Start Teachers (child ratings) | 65 | 12 | 0.25 | 200
Kindergarten Parents | 1600 | 1 | 0.75 | 1200
Kindergarten Children | 1600 | 1 | 0.75 | 1200
Kindergarten Teachers | 1600 | 1 | 0.50 | 800
Year 4 (2003):
Kindergarten Parents | 800 | 1 | 0.75 | 600
Kindergarten Children | 800 | 1 | 0.75 | 600
Kindergarten Teachers | 800 | 1 | 0.50 | 400

Annualized Totals:

Year 1, 5892

Year 2, 4113

Year 3, 4528

Year 4, 1600

Estimated Total Annual Burden Hours: 4033.

Note: The 4033 Total Annual Burden Hours is based on an average of 2000, 2001, 2002, and 2003 estimated burden hours.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of the this publication.

Dated: July 24, 2000.
Bob Sargis,
Reports Clearance Officer.

[FR Doc. 00-19259 Filed 7-28-00; 8:45 am]

BILLING CODE 4184-01-M